DEPARTMENT OF TRANSPORTATION

Federal Aviation Administration

14 CFR Part 39

[Docket No. FAA-2007-28434; Directorate Identifier 2007-CE-053-AD]

RIN 2120-AA64

Airworthiness Directives; Hawker Beechcraft Corporation (Type Certificates No. 3A15 and No. 3A16 Previously Held by Raytheon Aircraft Company) F33 Series and Models G33, V35B, A36, A36TC, B36TC, 95-B55, D55, E55, A56TC, 58, and G58 Airplanes and Raytheon Aircraft Company Models 58P, 58TC, and 77 Airplanes

AGENCY: Federal Aviation Administration (FAA), Department of Transportation (DOT).

ACTION: Notice of proposed rulemaking (NPRM).

SUMMARY: We propose to adopt a new airworthiness directive (AD) for certain Hawker Beechcraft Corporation F33 Series and Models G33, V35B, A36, A36TC, B36TC, 95-B55, D55, E55, A56TC, 58, and G58 airplanes and Raytheon Aircraft Company Models 58P, 58TC, and 77 airplanes. This proposed AD would require you to replace certain circuit breaker toggle switches with improved design circuit breaker toggle switches. This proposed AD results from reports of certain circuit breaker toggle switches used in various electrical systems throughout the affected airplanes overheating. We are proposing this AD to prevent failure of the circuit breaker toggle switch, which could result in smoke in the cockpit and the inability to turn off the switch.

DATES: We must receive comments on this proposed AD by September 4, 2007.

ADDRESSES: Use one of the following addresses to comment on this proposed AD:

• DOT Docket Web site: Go to http://dms.dot.gov and follow the instructions for sending your comments electronically.

• Mail: U.S. Department of Transportation, Docket Operations, M-30, West Building Ground Floor, Room W12-140, 1200 New Jersey Avenue, SE., Washington, DC 20590.

• Fax: (202) 493-2251.

• Hand Delivery: U.S. Department of Transportation, Docket Operations, M-30, West Building Ground Floor, Room W12-140, 1200 New Jersey Avenue, SE., Washington, DC 20590, between 9 a.m. and 5 p.m., Monday through Friday, except Federal holidays.

• Federal eRulemaking Portal: Go to http://www.regulations.gov. Follow the instructions for submitting comments.

For service information identified in this proposed AD, contact Hawker Beechcraft Corporation, 9709 East Central, Wichita, Kansas 67291; telephone: (800) 429-5372 or (316) 676-3140.

FOR FURTHER INFORMATION CONTACT: Jose Flores, Aviation Safety Engineer, Wichita Aircraft Certification Office, 1801 Airport Road, Room 100, Wichita, Kansas 67209; telephone: (316) 946-4132; fax: (316) 946-4107.

SUPPLEMENTARY INFORMATION:

Comments Invited

We invite you to send any written relevant data, views, or arguments regarding this proposed AD. Send your comments to an address listed under the ADDRESSES section. Include the docket number, “FAA-2007-28434; Directorate Identifier 2007-CE-053-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact we receive concerning this proposed AD.

Discussion

We have received reports of circuit breaker toggle switch failure on certain Hawker Beechcraft Corporation F33 Series and Models G33, V35B, A36, A36TC, B36TC, 95-B55, D55, E55, A56TC, 58, and G58 airplanes and Raytheon Aircraft Company Models 58P, 58TC, and 77 airplanes. These circuit breaker toggle switches are used in various electrical systems throughout the airplanes, which include but are not limited to anti-ice systems (PITOT, WSHLD, PROP), landing lights, strobe lights, taxi lights, and the rotating beacon.

Analysis of the affected circuit breaker toggle switches, part numbers (P/Ns) 35-380132-1 through 35-380132-53, shows that a copper braid inside the switch frays with use causing an internal short. The short causes the circuit breaker toggle switch to overheat producing smoke and a burning smell in the cockpit either from internal switch components melting or from external wiring melting because it is no longer protected by the breaker.

The manufacturer has developed a circuit breaker toggle switch with improved internal isolation, P/N 35-380132-61 through 35-380132-113.

This condition, if not corrected, could result in failure of circuit breaker toggle switch. This failure could result in smoke in the cockpit and the inability to turn off the switch.

Relevant Service Information

We have reviewed Hawker Beechcraft Recommended Service Bulletin SB 24-3807, Issued: May, 2007 and Raytheon Aircraft Company Recommended Service Bulletin SB 24-3735, Issued: August, 2005. The service information describes procedures for replacing circuit breaker toggle switches, P/Ns 35-380132-1 through 35-380132-53, with parts of improved design, P/Ns 35-380132-61 through 35-380132-113.

FAA's Determination and Requirements of the Proposed AD

We are proposing this AD because we evaluated all information and determined the unsafe condition described previously is likely to exist or develop on other products of the same type design. This proposed AD would require you to replace certain circuit breaker toggle switches with improved design circuit breaker toggle switches.

Costs of Compliance

We estimate that this proposed AD would affect 10,821 airplanes in the U.S. registry.

We estimate the following costs to do the proposed replacement:

Labor cost | Parts cost | Total cost per circuit breaker toggle switch | Total cost on U.S. operators
1 work-hour × $80 per hour = $80 per circuit breaker toggle switch | $105 per circuit breaker toggle switch | $185 for each circuit breaker toggle switch. Each airplane typically has more than 1 circuit breaker toggle switch installed. Some airplanes may have up to 15 | From $2,001,885 to replace one circuit breaker toggle switch per affected airplane up to $30,028,275 to replace 15 circuit breaker toggle switches per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://dms.dot.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Hawker Beechcraft Corporation (Type Certificates No. 3A15 and No. 3A16 previously held by Raytheon Aircraft Company) and Raytheon Aircraft Company: Docket No. FAA-2007-28434; Directorate Identifier 2007-CE-053-AD.

Comments Due Date

(a) We must receive comments on this airworthiness directive (AD) action by September 4, 2007.

Affected ADs

(b) None.

Applicability

(c) This AD applies to the following airplane models and serial numbers that have a part number (P/N) 35-380132-1 through 35-380132-53 circuit breaker toggle switch installed and are certificated in any category:

Models | Serial Nos.
(1) F33 and G33 | CD-1235 through CD-1304.
(2) F33A | CE-290 through CE-1791.
(3) F33C | CJ-26 through CJ-179.
(4) V35B | D-9069 through D-10403.
(5) A36 | E-185 through E-3629 and E-3631 through E-3635.
(6) A36TC and B36TC | EA-1 through EA-695.
(7) 95-B55 | TC-1913, TC-1936 through TC-2456.
(8) D55 | TE-452 through TE-767.
(9) E55 | TE-768 through TE-1201.
(10) A56TC | TG-84 through TG-94.
(11) 58 | TH-1 through TH-2124.
(12) 58P | TJ-3 through TJ-497.
(13) 58TC | TK-1 through TK-151.
(14) G58 | TH-2126, TH-2127, TH-2131 through TH-2134, TH-2136, TH-2137, TH-2139 through TH-2141, and TH-2143 through TH-2150.
(15) 77 | WA-1 through WA-312.

Unsafe Condition

(d) This AD results from reports of certain circuit breaker toggle switches used in various electrical systems through the affected airplanes overheating. We are proposing this AD to prevent failure of the circuit breaker toggle switch, which could result in smoke in the cockpit and the inability to turn off the switch.

Compliance

(e) To address this problem, you must do the following, unless already done:

Actions | Compliance | Procedures
(1) Replace all affected circuit breaker toggle switches specified in paragraph (c) of this AD with an improved circuit breaker toggle switch, P/N 35-380132-61 through 35-380132-113, as applicable | Within the next 12 months after the effective date of this AD | As specified in Hawker Beechcraft Recommended Service Bulletin SB 24-3807, Issued: May, 2007, and Raytheon Aircraft Company Recommended Service Bulletin SB 24-3735, Issued: August, 2005.
(2) Do not install a circuit breaker toggle switch specified in paragraph (c) of this AD | Before further flight after the replacement required by paragraph (e)(1) of this AD | Not applicable.

Alternative Methods of Compliance (AMOCs)

(f) The Manager, Wichita Aircraft Certification Office (ACO), FAA, has the authority to approve AMOCs for this AD, if requested using the procedures found in 14 CFR 39.19. Send information to ATTN: Jose Flores, Aviation Safety Engineer, FAA, Wichita ACO, 1801 Airport Road, Room 100, Wichita, Kansas 67209; telephone: (316) 946-4132; fax: (316) 946-4107. Before using any approved AMOC on any airplane to which the AMOC applies, notify your appropriate principal inspector (PI) in the FAA Flight Standards District Office (FSDO), or lacking a PI, your local FSDO.

Related Information

(g) To get copies of the service information referenced in this AD, contact Hawker Beechcraft Corporation, 9709 East Central, Wichita, Kansas 67291; telephone: (800) 429-5372 or (316) 676-3140. To view the AD docket, go to U.S. Department of Transportation, Docket Operations, M-30, West Building Ground Floor, Room W12-140, 1200 New Jersey Avenue, SE., Washington, DC 20590, or on the Internet at http://dms.dot.gov. The docket number is Docket No. FAA-2007-28434; Directorate Identifier 2007-CE-053-AD.

Issued in Kansas City, Missouri, on June 29, 2007.
Kim Smith,
Manager, Small Airplane Directorate, Aircraft Certification Service.

[FR Doc. E7-13088 Filed 7-5-07; 8:45 am]

BILLING CODE 4910-13-P